DEPARTMENT OF TRANSPORTATION (DOT)

Federal Aviation Administration

14 CFR Part 39

[Docket No. FAA-2004-17996; Directorate Identifier 2004-NM-100-AD; Amendment 39-13659; AD 2004-11-13]

RIN 2120-AA64

Airworthiness Directives; Airbus Model A318, A319, A320, and A321 Series Airplanes

AGENCY: Federal Aviation Administration (FAA), DOT.

ACTION: Final rule; request for comments.

SUMMARY: The FAA is superseding an existing airworthiness directive (AD) for all Airbus Model A318, A319, A320, and A321 series airplanes. That AD currently requires a one-time general visual inspection to determine the part number and serial number of both main landing gear (MLG) sliding tubes, and related investigative and corrective actions if necessary. This amendment adds an additional inspection to determine only the serial number of the MLG sliding tubes. This AD is prompted by a report that the field of MLG sliding tubes subject to the identified unsafe condition has expanded. We are issuing this AD to detect and correct cracking in an MLG sliding tube, which could result in failure of the sliding tube, loss of one axle, and consequent reduced controllability of the airplane.

DATES: Effective June 23, 2004.

The incorporation by reference of Airbus All Operators Telex A320-32A1273, Revision 01, dated May 6, 2004, listed in the AD is approved by the Director of the Federal Register as of June 23, 2004.

On April 14, 2004 (69 FR 16475, March 30, 2004), the Director of the Federal Register approved the incorporation by reference of Airbus All Operators Telex A320-32A1273, dated February 5, 2004.

We must receive any comments on this AD by August 9, 2004.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• Fax: (202) 493-2251.

• Hand Delivery: room PL-401 on the plaza level of the Nassif Building, 400 Seventh Street, SW., Washington, DC, between 9 a.m. and 5 p.m., Monday through Friday, except Federal holidays.

You can get the service information identified in this AD from Airbus, 1 Rond Point Maurice Bellonte, 31707 Blagnac Cedex, France. You may examine this information at the National Archives and Records Administration (NARA). For information on the availability of this material at NARA, call (202) 741-6030, or go to: http://www.archives.gov/federal_register/code_of_federal_regulations/ibr_locations.html.

You may examine the contents of this AD docket on the Internet at http://dms.dot.gov, or at the Docket Management Facility, U.S. Department of Transportation, 400 Seventh Street, SW., room PL-401, on the plaza level of the Nassif Building, Washington, DC.

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Examining the Dockets

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: On March 19, 2004, we issued AD 2004-07-02, amendment 39-13546 (69 FR 16475, March 30, 2004). That AD requires a one-time general visual inspection to determine the part number and serial number of both main landing gear (MLG) sliding tubes, and related investigative and corrective actions if necessary. That AD was prompted by a report indicating that, during a routine visual inspection of an MLG sliding tube, a linear crack was found at the intersection of the cylinder and the axle. The actions specified in that AD are intended to detect and correct cracking in an MLG sliding tube, which could result in failure of the sliding tube, loss of one axle, and consequent reduced controllability of the airplane.

Actions Since AD Was Issued

Since we issued that AD, the Direction Générale de l'Aviation Civile (DGAC), which is the airworthiness authority for France, notified the FAA that the applicability field of the MLG sliding tubes that need to be inspected has been expanded. Initially, the number of affected parts included MLG sliding tubes with certain serial numbers (S/Ns) and with certain part numbers (P/Ns). However, the field of affected parts has been expanded to include additional MLG sliding tubes that are subject to the identified unsafe condition. Additionally, the MLG sliding tubes have all been identified by S/N, regardless of P/N.

Relevant Service Information

Airbus has issued All Operators Telex (AOT) A320-32A1273, Revision 01, dated May 6, 2004, which describes procedures for a one-time inspection to determine the serial number of both MLG sliding tubes, and related investigative and corrective actions if necessary. The AOT specifies to report the S/N to Airbus. The related investigative action includes repetitive inspections of the MLG sliding tubes for cracking. The corrective actions include replacing the MLG sliding tube with a new or serviceable MLG sliding tube, reporting any cracking to Airbus, and sending the affected MLG sliding tube to Messier-Dowty. Replacing the MLG sliding tube with an MLG sliding tube having a S/N that is not listed in the AOT eliminates the need for the repetitive inspections.

The DGAC mandated the service information and issued French airworthiness directive UF-2004-065, dated May 11, 2004, to ensure the continued airworthiness of these airplanes in France.

FAA's Determination and Requirements of This AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that AD action is necessary for products of this type design that are certificated for operation in the United States.

Therefore, we are issuing this AD to detect and correct cracking in an MLG sliding tube, which could result in failure of the sliding tube, loss of one axle, and consequent reduced controllability of the airplane. This AD continues to require a one-time general visual inspection to determine the P/N and S/N of both MLG sliding tubes, and related investigative and corrective actions if necessary. This AD adds an additional inspection to determine only the S/N of the MLG sliding tubes. This AD also provides for terminating action for certain requirements. This AD requires using the service information described previously to perform these actions, except as discussed under “Differences Among the French Airworthiness Directive, Service Information, and This AD.”

We are requiring a short compliance time because the identified unsafe condition can adversely affect the controllability of the airplane. Therefore, we must issue this AD immediately, and you must comply with the requirements at the specified time intervals.

Differences Among the French Airworthiness Directive, Service Information, and This AD

The applicability of the French airworthiness directive and the effectivity of the AOT include the list of affected S/Ns for the MLG sliding tubes. The applicability of this AD does not include S/Ns. We find that listing S/Ns in the applicability is not necessary because paragraphs (f) and (g) of this AD require a general visual inspection to determine the S/N of both MLG sliding tubes.

The AOT specifies to send any cracked part to Messier-Dowty. This AD does not include such a requirement.

Clarification of Inspection Terminology

The Airbus AOT specifies to “visually check” the serial number displayed on the MLG sliding tube. This AD requires a “general visual inspection,” which is defined in Note 1 of this AD. For certain airplanes, the AOT also specifies to “visually check” the MLG sliding tube for surface cracking. This AD requires a “detailed inspection,” which is defined in Note 2 of this AD.

Clarification of Corrective Action

The Airbus AOT specifies to remove any cracked MLG sliding tube from the airplane, but does not specify replacing the affected part with another part. This AD requires replacing any cracked part with a new or serviceable part.

Change to Existing AD

This AD would retain certain requirements of AD 2004-07-02. Since AD 2004-07-02 was issued, the AD format has been revised, and certain paragraphs have been rearranged. As a result, the corresponding paragraph identifiers have changed in this AD, as listed in the following table:

Revised Paragraph Identifiers
Requirement in AD 2004-07-02 | Corresponding requirement in this AD
Paragraph (a) | Paragraph (f).
Paragraph (b) | Paragraph (h).
Paragraph (c) | Paragraph (i).

Interim Action

We consider this AD to be interim action. The manufacturer is currently developing a non-destructive inspection technique to detect non-metallic inclusions in the base metal of the MLG sliding tube, which, along with any necessary corrective actions, will address the unsafe condition identified in this AD. Once this inspection is developed, approved, and available, we may consider additional rulemaking.

FAA's Determination of the Effective Date

An unsafe condition exists that requires the immediate adoption of this AD; therefore, providing notice and opportunity for public comment before the AD is issued is impracticable, and good cause exists to make this AD effective in less than 30 days.

Comments Invited

This AD is a final rule that involves requirements that affect flight safety and was not preceded by notice and an opportunity for public comment; however, we invite you to submit any written relevant data, views, or arguments regarding this AD. Send your comments to an address listed under ADDRESSES. Include “Docket No. FAA-2004-17996; Directorate Identifier 2004-NM-100-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact with FAA personnel concerning this AD. Using the search function of our docket Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

We are reviewing the writing style we currently use in regulatory documents. We are interested in your comments on whether the style of this document is clear, and your suggestions to improve the clarity of our communications with you. You can get more information about plain language at http://www/faa.gov/language and http://www.plainlanguage.gov.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing amendment 39-13546 (69 FR 16475, March 30, 2004) and adding the following new AD:

2004-11-13 Airbus: Docket No. FAA-2004-17996; Directorate Identifier 2004-NM-100-AD; Amendment 39-13659.

Effective Date

(a) This AD becomes effective June 23, 2004.

Affected ADs

(b) This AD supersedes AD 2004-07-02, amendment 39-13546.

Applicability

(c) This AD applies to all Model A318, A319, A320, and A321 series airplanes, certificated in any category.

Unsafe Condition

(d) This AD was prompted by a report that the field of main landing gear (MLG) sliding tubes subject to the identified unsafe condition has expanded. We are issuing this AD to detect and correct cracking in a main landing gear (MLG) sliding tube, which could result in failure of the sliding tube, loss of one axle, and consequent reduced controllability of the airplane.

Compliance

(e) You are responsible for having the actions required by this AD performed within the compliance times specified, unless the actions have already been done.

Restatement of Requirements of AD 2004-07-02

Part Number Identification, Detailed Inspection, and Corrective Action

(f) For airplanes on which the actions required by AD 2004-07-02, amendment 39-13546, have been done before the effective date of this AD: Within 30 days after April 14, 2004 (the effective date of AD 2004-07-02), do a one-time general visual inspection to determine the part number (P/N) and serial number (S/N) of both MLG sliding tubes, per Airbus All Operators Telex (AOT) A320-32A1273, dated February 5, 2004. After the effective date of this AD, only the S/N must be determined and only Airbus AOT A320-32A1273, Revision 01, dated May 6, 2004, may be used; as required by paragraph (g) of this AD.

(1) If both the P/N and S/N of any MLG sliding tube are not listed in the AOT A320-32A1273, dated February 5, 2004: No further action is required by this paragraph for that MLG sliding tube.

(2) If both the P/N and S/N of any MLG sliding tube are listed in the AOT A320-32A1273, dated February 5, 2004: Before further flight, do a detailed inspection of the MLG sliding tube for cracking, per AOT A320-32A1273, dated February 5, 2004, or AOT A320-32A1273, Revision 01, dated May 6, 2004. After the effective date of this AD, do the detailed inspection per AOT A320-32A1273, Revision 01, dated May 6, 2004.

(i) If no cracking is found in any MLG sliding tube: Repeat the detailed inspection thereafter at intervals not to exceed 10 days until the inspection required by paragraph (g)(2)(ii) of this AD is done.

(ii) If any cracking is found in any MLG sliding tube: Before further flight, replace the part with a new or serviceable part per a method approved by either the FAA or the Direction Générale de l'Aviation Civile (or its delegated agent). Chapter 32 of the Airbus A318/A319/A320/A321 Aircraft Maintenance Manual is one approved method. Installation of an MLG sliding tube that does not have both a P/N and an S/N listed in Airbus AOT A320-32A1273, dated February 5, 2004; or an S/N listed in Airbus AOT A320-32A1273, Revision 01, dated May 6, 2004; is terminating action for the repetitive inspections required by paragraph (f)(2)(i) of this AD for that MLG sliding tube only. After the effective date of this AD, only the installation of an MLG sliding tube that does not have an S/N listed in Airbus AOT A320-32A1273, Revision 01, dated May 6, 2004, is terminating action for the repetitive inspections required by paragraph (f)(2)(i) of this AD for that MLG sliding tube only.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

New Requirements of This AD

Serial Number Identification

(g) For all airplanes: Within 30 days after the effective date of this AD, do a one-time general visual inspection to determine the S/N of both MLG sliding tubes, per Airbus AOT A320-32A1273, Revision 01, dated May 6, 2004. Instead of inspecting the MLG sliding tubes, reviewing the airplane maintenance records is acceptable if the S/N of the MLG sliding tubes can be positively determined from that review.

(1) If the S/N of any MLG sliding tube is not listed in AOT A320-32A1273, Revision 01, dated May 6, 2004: No further action is required by this paragraph for that MLG sliding tube.

(2) If the S/N of any MLG sliding tube is listed in AOT A320-32A1273, Revision 01, dated May 6, 2004: Do the actions in paragraph (g)(2)(i) or (g)(2)(ii) of this AD, as applicable.

(i) For any MLG sliding tube that has not been inspected per paragraph (f)(2) of this AD before the effective date of this AD: Before further flight, do a detailed inspection of the MLG sliding tube for cracking, per AOT A320-32A1273, Revision 01, dated May 6, 2004.

(A) If no cracking is found in any MLG sliding tube: Repeat the detailed inspection at intervals not to exceed 10 days.

(B) If any cracking is found in any MLG sliding tube: Before further flight, replace the part with a new or serviceable part per a method approved by either the FAA or the Direction Générale de l'Aviation Civile (or its delegated agent). Chapter 32 of the Airbus A318/A319/A320/A321 Aircraft Maintenance Manual is one approved method. Installing an MLG sliding tube that has an S/N that is not listed in Airbus AOT A320-32A1273, Revision 01, dated May 6, 2004, terminates the repetitive inspections required by paragraph (g)(2)(i) of this AD for that MLG sliding tube only.

(ii) For any MLG sliding tube that has been inspected per paragraph (f)(2) of this AD before the effective date of this AD: Within 10 days since the last inspection required by paragraph (f)(2) of this AD, do the detailed inspection required by paragraph (g)(2)(i) of this AD. Performing this detailed inspection terminates the repetitive inspections required by paragraph (f)(2)(i) of this AD.

Submission of Cracked Parts Not Required

(h) Airbus AOT A320-32A1273, dated February 5, 2004, and AOT A320-32A1273, Revision 01, dated May 6, 2004, specify to send any cracked part to Messier-Dowty. This AD does not include such a requirement.

Reporting Requirement

(i) Prepare a report of any crack found during any detailed inspection required by paragraphs (f)(2)(i) and (g)(2) of this AD. Send the report to Airbus Customer Services, Engineering and Technical Support, Attention: M.Y. Quimiou, SEE33, fax +33+ (0) 5.6193.32.73, at the applicable time specified in paragraph (i)(1) or (i)(2) of this AD. The report must include the MLG sliding pin P/N and S/N, date of inspection, a description of any cracking found, the airplane serial number, and the number of flight cycles on the MLG at the time of inspection. Under the provisions of the Paperwork Reduction Act of 1980 (44 U.S.C. 3501 et seq.), the Office of Management and Budget (OMB) has approved the information collection requirements contained in this AD and has assigned OMB Control Number 2120-0056.

(1) If the inspection is done after April 14, 2004: Submit the report within 30 days after the inspection.

(2) If the inspection was done before April 14, 2004: Submit the report within 30 days after April 14, 2004.

Parts Installation

(j) As of the effective date of this AD, no person may install an MLG sliding tube having an S/N that is listed in Airbus AOT A320-32A1273, Revision 01, dated May 6, 2004, on any airplane, unless the part has been inspected, and any applicable correction done, per paragraph (g)(2)(i) of this AD.

Alternative Methods of Compliance (AMOCs)

(k) The Manager, International Branch, ANM-116, Transport Airplane Directorate, FAA, has the authority to approve AMOCs for this AD, if requested using the procedures found in 14 CFR 39.19.

Related Information

(l) French airworthiness directive UF-2004-065, dated May 11, 2004, also addresses the subject of this AD.

Material Incorporated by Reference

(m) You must use Airbus All Operators Telex A320-32A1273, dated February 5, 2004; and Airbus All Operators Telex A320-32A1273, Revision 01, dated May 6, 2004; as applicable; to perform the actions that are required by this AD, unless the AD specifies otherwise.

(1) The Director of the Federal Register approves the incorporation by reference of Airbus All Operators Telex A320-32A1273, Revision 01, dated May 6, 2004, in accordance with 5 U.S.C. 552(a) and 1 CFR part 51.

(2) On April 14, 2004 (69 FR 16475, March 30, 2004), the Director of the Federal Register approved the incorporation by reference of Airbus All Operators Telex A320-32A1273, dated February 5, 2004.

(3) You can get copies of the documents from Airbus, 1 Rond Point Maurice Bellonte, 31707 Blagnac Cedex, France. You can review copies at the Docket Management Facility, U.S. Department of Transportation, 400 Seventh Street, SW., room PL-401, Nassif Building, Washington, DC; or at the National Archives and Records Administration (NARA). For information on the availability of this material at NARA, call (202) 741-6030, or go to: http://www.archives.gov/federal_register/code_of_federal_regulations/ibr_locations.html.

Issued in Renton, Washington, on May 28, 2004.
Kevin M. Mullin,
Acting Manager, Transport Airplane Directorate, Aircraft Certification Service.

[FR Doc. 04-12678 Filed 6-7-04; 8:45 am]

BILLING CODE 4910-13-P